DEPARTMENT OF EDUCATION

[CFDA No. 84.359A/B]

Notice Extending Full Application Deadline Date for the Early Reading First (ERF) Fiscal Year (FY) 2006 Competition

AGENCY: Office of Elementary and Secondary Education, Department of Education.

SUMMARY: On January 18, 2006, we published in the Federal Register (71 FR 2916) a notice inviting applications for the Early Reading First FY 2006 competition. The deadline date for eligible applicants to transmit their full applications for funding under this competition was May 8, 2006. Due to the reopening of the pre-application phase of the ERF FY 2006 competition, we now are extending the deadline date for full applications for the ERF FY 2006 competition to May 31, 2006 for all applicants invited to submit those applications.

This notice also clarifies the requirements for the submission of full applications under this competition. The new deadline date for applicants invited to submit full applications is:

Deadline for Transmittal of Full Applications: May 31, 2006 (by 4:30 p.m., Washington DC time).

Full applications for grants under this competition must be submitted electronically using the Grants.gov Apply site (Grants.gov) unless you otherwise qualify for an exception to the electronic submission requirement. This includes applicants that previously submitted their pre-applications electronically through Grants.gov and applicants that previously submitted their pre-applications in paper format. For information (including dates and times) about how to submit your application, please refer to the SUPPLEMENTARY INFORMATION section in this notice.

We do not consider a full application that does not comply with the extended full application deadline and submission requirements announced in this notice.

Deadline for Intergovernmental Review: The deadline date for Intergovernmental Review under Executive Order 12372 is extended to July 31, 2006.

SUPPLEMENTARY INFORMATION:

a. Electronic Submission Requirements

All applicants that are invited to submit a full application for a grant under the ERF program—CFDA Number 84.359B must submit their full applications electronically using the Grants.gov Apply site at: http://www.grants.gov as specified in the January 18, 2006 Federal Register notice inviting applications (71 FR 2916) (Application Notice). This Application Notice is available at the following Web site: http://www.ed.gov/legislation/FedRegister/announcements/2006-1/011806c.html.

We will reject your full application if you submit it in paper format unless you are invited to submit a full application and you qualify for an exception to the electronic submission requirement for the full application as described in section IV.6.a. of the January 18, 2006 Application Notice (71 FR 2916). Those qualification requirements include, in part, that no later than two weeks before the extended full application deadline date (14 calendar days) you mail or fax a written statement to the Department as described in that notice explaining the basis for the exception.

Applicants that submitted the pre-application in paper format and therefore have not registered previously via Grants.gov must complete all of the steps in the Grants.gov registration process (see http://www.Grants.gov/GetStarted). These steps include (1) Registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your full application the same D-U-N-S Number used with this registration. Please note that the registration process may take five or more business days to complete, and you must have completed all registration steps to allow you to submit successfully a full application via Grants.gov.

b. Additional Application Information

1. Address to Request Application Package

You may obtain an application package via the Internet or from the Education Publications Center (ED Pubs). To obtain an application via the Internet, use the following Web address: http://www.ed.gov/programs/earlyreading/applicant.html.

To obtain a copy from ED Pubs, write or call the Education Publications Center, P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application package from ED Pubs, be sure to identify this competition as follows: CFDA number 84.359A/B.

Individuals with disabilities may obtain a copy of the application package in an alternative format (e.g., Braille, large print, audiotape, or computer diskette) by contacting the program contact person listed under FOR FURTHER INFORMATION CONTACT in this notice.

2. Content and Form of Full Application Submission

All requirements concerning the content of the full application, including page-limit and limited appendices requirements, a competitive preference priority, and the selection criteria, together with the forms you must submit, are in the application package for this competition. Please also refer to the January 18, 2006 Application Notice (71 FR 2916) for further information governing this grant competition. This Application Notice is available at the following Web site: http://www.ed.gov/legislation/FedRegister/announcements/2006-1/011806c.html.

FOR FURTHER INFORMATION CONTACT: Jill Stewart, U.S. Department of Education, 400 Maryland Avenue, SW., room 3C136, Washington, DC 20202-6132. Telephone: (202) 260-2533 or by e-mail: Jill.Stewart@ed.gov; or Rebecca Haynes, U.S. Department of Education, 400 Maryland Avenue, SW., room 3C138, Washington, DC 20202-6132. Telephone: (202) 260-0968 or by e-mail: Rebecca.Haynes@ed.gov.

If you use a telecommunications device for the deaf (TDD), you may call the Federal Relay Service (FRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 12, 2006.
Henry L. Johnson,
Assistant Secretary for Elementary and Secondary Education.

[FR Doc. E6-5782 Filed 4-17-06; 8:45 am]

BILLING CODE 4000-01-P